SOCIAL SECURITY ADMINISTRATION

[Docket No: SSA-2020-0010]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and one new collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0010].

I. The information collection below is pending at SSA. SSA will submit it to OMB within 60 days from the date of this notice. To be sure we consider your comments, we must receive them no later than May 26, 2020. Individuals can obtain copies of the collection instrument by writing to the above email address.

Notice to Electronic Information Exchange Partners To Provide Contractor List—0960-NEW. The Federal standards Privacy Act of 1974; E-Government Act of 2002; and the National Institute of Standard Special Publications 800-53-4, require SSA to maintain oversight of the information it provides to Electronic Information Exchange Partners (EIEPs). EIEPs obtain SSA data for the administration of federally funded and state-administered programs. SSA has a responsibility to monitor and protect the personally identifiable information SSA shares with other Federal and State agencies, and private organizations through the Computer Matching and Privacy Protection Act, and the Information Exchange Agreements (IEA). Under the terms of the State Transmission Component IEA, and agency IEA, EIEPs agree to comply with Electronic Information Exchange security requirements and procedures for State and local Agencies exchanging electronic information with SSA. SSA's Technical Systems Security Requirements document provides all agencies using SSA data ensure SSA information is not processed; maintained; transmitted; or stored in electronic devices; computers; or computer networks located in geographic or virtual areas not subject to U.S. law, or stored by means of a data communications channel. SSA conducts tri-annual compliance reviews of all State and local agencies, and Tribes with whom we have an IEA, to verify appropriate security safeguards remain in place to protect the confidentiality of information SSA supplies. SSA requires any organization with an electronic data exchange agreement, to provide the SSA Regional Office contact a current list of contractors, or agents, who have access to SSA data upon request. SSA uses Form SSA-731, Notice to Electronic Information Exchange Partners to Provide Contractor List to collect this. The respondents are Federal agencies, and state, local, or tribal agencies, who exchange electronic information with SSA.

Type of Request: Request for a new information collection.

Modality of completion | Number of respondents | Frequency of response | Average burden per response (minutes) | Estimated total annual burden (hours) | Average theoretical hourly cost amount (dollars) * | Total annual opportunity cost (dollars) **
SSA-731 | 300 | 1 | 20 | 100 | $18.00 * | $1,800 **
* We based this figure on average State, local and tribal government worker's salaries, as reported by Bureau of Labor Statistics data.
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than April 27, 2020. Individuals can obtain copies of the OMB clearance packages by writing to OR.Reports.Clearance@ssa.gov.

1. Continuing Disability Review Report—20 CFR 404.1589 & 416.989—0960-0072. Sections 221(i), 1614(a)(3)(H)(ii)(I) and 1633(c)(1) of the Social Security Act (Act) require SSA to periodically review the cases of individuals who receive benefits under Title II or Title XVI, based on disability, to determine if disability continues. SSA uses Form SSA-454, Continuing Disability Review Report to complete the review for continued disability. SSA considers adults eligible for payment if they continue to be unable to do substantial gainful activity because of their impairments; and we consider Title XVI children eligible for payment if they have marked and severe functional limitations due to their impairments. SSA also uses Form SSA-454 to obtain information on sources of medical treatment; participation in vocational rehabilitation programs (if any); attempts to work (if any); and the opinions of individuals regarding whether their conditions have improved. The respondents are Title II or Title XVI disability recipients or their representatives.

Type of Request: Revision of an OMB-approved information collection.

Modality of completion | Number of respondents | Frequency of response | Average burden per response (minutes) | Estimated total annual burden (hours) | Average theoretical hourly cost amount (dollars) * | Total annual opportunity cost (dollars) ** | Average wait time in field office (minutes) *** | Total annual opportunity cost for wait time (dollars) **
SSA-454-BK (Paper version) | 270,500 | 1 | 60 | 270,500 | * $10.22 | ** $2,764,510 | *** 24 | ** $245
Electronic Disability Collect System (EDCS) | 270,500 | 1 | 60 | 270,500 | * 10.22 | ** 2,764,510 | *** 24 | ** 245
Totals | 541,000 |  |  | 541,000 |  | ** 5,529,020 |  | ** 490
* We based this figure on average DI payments, as reported in SSA's disability insurance payment data.
** This figure does not represent actual costs that SSA is imposing on recipients of Social Security payments to complete this application; rather, these are theoretical opportunity costs for the additional time respondents will spend to complete the application. There is no actual charge to respondents to complete the application.
*** We based this figure on the average FY 2020 wait times for field offices, based on SSA's current management information data.

2. Employer Reports of Special Wage Payments—20 CFR 404.428-404.429—0960-0565. SSA collects information on the SSA-131 to prevent earnings-related overpayments, and to avoid erroneous withholding of benefits. SSA field offices and program service centers also use Form SSA-131 for awards and post-entitlement events requiring special wage payment verification from employers. While we need this information to ensure the correct payment of benefits, we do not require employers to respond. The respondents are large and small businesses that make special wage payments to retirees.

Type of Request: Revision of an OMB-approved information collection.

Modality of completion | Number of respondents | Frequency of response | Average burden per response (minutes) | Estimated total annual burden (hours) | Average theoretical hourly cost amount (dollars) * | Total annual opportunity cost (dollars) ** | Average wait time in field office (minutes) *** | Total annual opportunity cost for wait time (dollars) **
Paper Version: SSA-131 (without #6) | 105,000 | 1 | 20 | 35,000 | * $36.65 | ** $1,282,750 | *** 24 | ** $880
Paper Version: SSA-131 (#6 only) | 1,050 | 1 | 2 | 35 | * 36.65 | ** 1,283 | *** 24 | ** 880
Electronic Version: Business Services Online Special Wage Payments | 26 | 1 | 5 | 2 | * 36.65 | ** 73 | 0 | 0
Totals | 106,076 |  |  | 35,037 |  | ** 1,284,106 |  | ** 1,760
* We based this figure on average Budget Analysts hourly salary, as reported by Bureau of Labor Statistics data.
** This figure does not represent actual costs that SSA is imposing on recipients of Social Security payments to complete this application; rather, these are theoretical opportunity costs for the additional time respondents will spend to complete the application. There is no actual charge to respondents to complete the application.
*** We based this figure on the average FY 2020 wait times for field offices, based on SSA's current management information data.

Dated: March 20, 2020.
Naomi Sipple,
Reports Clearance Officer, Social Security Administration.

[FR Doc. 2020-06277 Filed 3-25-20; 8:45 am]

BILLING CODE 4191-02-P